DEPARTMENT OF COMMERCE

National Oceanic and Atmospheric Administration

Agency Information Collection Activities; Submission to the Office of Management and Budget (OMB) for Review and Approval; Comment Request; Weather.gov Visitor Experience Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 19, 2022 (87 FR 43007) during a 60-day comment period. This notice allows for an additional 30 days for public comments.

Agency: National Oceanic & Atmospheric Administration (NOAA), Commerce.

Title: Weather.gov Visitor Experience Survey.

OMB Control Number: 0648-XXXX.

Form Number(s): None.

Type of Request: Regular submission (new information collection).

Number of Respondents: 14,750.

Average Hours per Response: 10 Minutes.

Total Annual Burden Hours: 2,508.

Needs and Uses: The data collection is sponsored by DOC/NOAA/National Weather Service (NWS)/Office of Dissemination (DISS) in consultation with the NWS Communications Division. Weather.gov is the main entry point to National Weather Service (NWS) forecasts, warnings, and other information for a diverse user community, including the public, partners and emergency managers, academia, researchers, and employees. The user interface is intended to serve many purposes for these audiences.

The Weather.gov Survey is permitted under 15 U.S.C. ch. 111, Weather Research and Forecasting Information. It also advances the NWS Strategic Plan (2019-2022) “Transformative Impact-Based Decision Support Services (IDSS) and Research to Operations and Operations to Research (R2O/O2R). The Survey also addresses the NWS Weather Ready Nation (WRN) Roadmap (2013) sections 1.1.1, 1.1.2, 1.1.3, 1.1.8, and 3.1.4.

The purpose of this collection is to help determine the appropriate web content for Weather.gov so the customer experience can be improved and the content can be better accessed and used. NWS is looking to improve functionality, ease of use, and formatting but feedback on any other areas of Weather.gov that NWS should consider updating is welcome as well. The collection will create a high-level data requirements document that identifies a set of high-priority NWS products, services, and observations that provide mission-critical, timely, and reliable information to make decisions with when seconds count. The document will also identify high-level partner requirements for accessibility (mobile versus desktop), timeliness, and reliability.

This information would be collected on a one-off basis and analyzed by Forrester Research, who has assisted NWS in creating a survey instrument and would provide NWS with a summary of findings, raw data and access to interactive “dashboards”, or tools, to visualize the aggregated data. Respondents include the general public, defined as (adults ages 18+) who reside in the United States, as well as NWS partners. Forrester will oversee recruitment of U.S. adults by an online market research company that aggregates large panels of people who sign up to complete internet surveys. Respondents will be asked questions about their preferred way of getting weather information (including weather on regular days and during severe/hazardous weather), their use of Weather.gov and other weather websites, interest in different types of weather information on a website, priorities and preferences in accessing weather-related information online, and preferred format of receiving weather information. This data collection serves many purposes, including gaining a better understanding of the online weather information needs (including information about hazardous weather) of different customer groups, including historically underserved and socially vulnerable communities, how they prefer to receive this information, how they would like the main page of Weather.gov to be organized, what additional functionality they expect that would make them feel better prepared for hazardous weather, and has the potential to explore possible correlations and causal relationships with other observed variables of interest. This data will be used by the OSTI in NWS to develop a set of website content requirements to improve the structure and navigation on Weather.gov.

Affected Public: Individuals or households.

Frequency: Once.

Respondent's Obligation: Voluntary.

Legal Authority: 15 U.S.C. ch. 111, Weather Research and Forecasting Information.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2022-22624 Filed 10-17-22; 8:45 am]

BILLING CODE 3510-KE-P